DEPARTMENT OF VETERANS AFFAIRS

Chiropractic Advisory Committee; Notice of Meeting

The Department of Veterans Affairs (VA) gives notice under Public Law 92-463 (Federal Advisory Committee Act) that the Chiropractic Advisory Committee will meet Tuesday, September 16, 2003, from 8:30 a.m. until 5 p.m., and Wednesday, September 17, 2003, from 8:30 a.m. until 4 p.m., at the Department of Veterans Affairs, Tech World Room 1105, 8011 I St., NW., Washington, DC 20001. The meeting is open to the public.

The purpose of the Committee is to provide direct assistance and advice to the Secretary of Veterans Affairs in the development and implementation of the chiropractic health program. Matters on which the Committee shall assist and advise the Secretary include protocols governing referrals to chiropractors and direct access to chiropractic care, scope of practice of chiropractic practitioners, definitions of services to be provided and such other matters as the Secretary determines to be appropriate.

On September 16, the Committee will receive an update on the status of the chiropractic occupational study and discuss the draft recommendations to the Secretary. On September 17, the Committee will discuss the agenda for the next meeting and continue discussions on the recommendations.

Any member of the public wishing to attend the meeting is requested to contact Ms. Sara McVicker, RN, MN, Designated Federal Officer, at (202) 273-8558, no later than noon eastern time on Friday, September 12, 2003, in order to facilitate entry to the building. No time will be allocated at this meeting for receiving oral presentations from the public.

The draft recommendations to be discussed at the meeting will be posted not later than July 29, 2003, on the Committee Internet site at www.va.gov/primary and will be available upon request after that date from Ms. McVicker. The Committee will accept written comments on the draft recommendations from interested parties. It is preferred that such comments be transmitted electronically to the Committee at sara.mcvicker@mail.va.gov. Comments may be mailed to: Chiropractic Advisory Committee, Primary and Ambulatory Care SHG (112), U.S. Department of Veterans Affairs, 810 Vermont Avenue, NW., Washington, DC 20420. Items mailed via United States Postal Service require 7-10 days for delivery due to delays resulting from security measures. Comments received prior to August 22, 2003, will be compiled for Committee review prior to the meeting. Comments received after that date but prior to the meeting will be provided to Committee members at the meeting.

Dated: July 28, 2003.
By Direction of the Secretary.
E. Phillip Riggin,
Committee Management Officer.

[FR Doc. 03-19758 Filed 8-1-03; 8:45 am]

BILLING CODE 8320-01-M